DEPARTMENT OF TRANSPORTATION

Federal Railroad Administration

[Docket No. FRA-2000-7257; Notice No. 33]

Railroad Safety Advisory Committee; Notice of Meeting

AGENCY: Federal Railroad Administration (FRA), Department of Transportation (DOT).

ACTION: Notice of the Railroad Safety Advisory Committee (RSAC) meeting.

SUMMARY: FRA announces the next meeting of the RSAC, a Federal Advisory Committee that develops railroad safety regulations through a consensus process. The RSAC meeting topics will include updates on the Highway-Rail Crossing Action Plan, Railroad Security, the Switching Operations Fatality Analysis, and the Collision Analysis Working Group. Status reports will be given on the Passenger Safety Working Group, the Positive Train Control (PTC) Roadway Worker Task Group, and other active working groups. The Committee will be briefed on the Roadway Worker Protection Safety Advisory, PTC Peer Review, and the Report to Congress on Remote Control.

DATES: The meeting of the RSAC is scheduled to commence at 9:30 a.m. and conclude at 4 p.m. on Tuesday, April 27, 2004.

ADDRESSES: The meeting of the RSAC will be held at the Washington Plaza, 10 Thomas Circle, NW., Washington, DC 20005, (202) 842-1300. The meeting is open to the public on a first-come, first-serve basis and is accessible to individuals with disabilities. Sign and oral interpretation can be made available if requested 10 calendar days before the meeting.

FOR FURTHER INFORMATION CONTACT: Trish Butera or Lydia Leeds, RSAC Coordinators, FRA, 1120 Vermont Avenue, NW., stop 25, Washington, DC 20590, (202) 493-6212/6213 or Grady Cothen, Deputy Associate Administrator for Safety Standards and Program Development, FRA, 1120 Vermont Avenue, NW., Mailstop 25, Washington, DC 20590, (202) 493-6302.

SUPPLEMENTARY INFORMATION: Pursuant to section 10(a)(2) of the Federal Advisory Committee Act (Pub. L. 92-463), FRA is giving notice of a meeting of the RSAC. The meeting is scheduled to begin at 9:30 a.m. and conclude at 4 p.m. on Tuesday, April 27, 2004. The meeting of the RSAC will be held at the Washington Plaza, 10 Thomas Circle, NW., Washington, DC 20005, (202) 842-1300. All times noted are Daylight Savings Time.

RSAC was established to provide advice and recommendations to the FRA on railroad safety matters. The Committee consists of 48 individual voting representatives and five associates representatives drawn from among 30 organizations representing various rail industry perspectives, two associate representatives from the agencies with railroad safety regulatory responsibility in Canada and Mexico and other diverse groups. Staffs of the National Transportation Safety Board and Federal Transit Administration also participate in an advisory capacity.

See the RSAC website for details on pending tasks at: http://rsac.fra.dot.gov/. Please refer to the notice published in the Federal Register on March 11, 1996, (61 FR 9740) for more information about the RSAC.

Issued in Washington, DC on March 25, 2004.
George A. Gavalla,
Associate Administrator for Safety.

[FR Doc. 04-7118 Filed 3-30-04; 8:45 am]

BILLING CODE 4910-06-M